DEPARTMENT OF HEALTH AND HUMAN SERVICES

National Institutes of Health

Office of the Director, National Institutes of Health; Notice of Public Forums

Notice is hereby given of two forums of the working groups of the NIH Scientific Management Review Board: Deliberating Organizational Changes and Effectiveness Working Group and Substance Use, Abuse and Addition Working Group. The forums will serve as the first among a series of sessions for gathering information on the agency's organizational structure and recommendations for enhancing the NIH mission through greater agency flexibility and responsiveness.

The forums will be open to the public, with attendance limited to space available. Individuals who plan to attend and need special assistance, such as sign language interpretation or other reasonable accommodations, should notify the Contact Person listed below in advance of the meeting.

The input from these meetings will be summarized in a report that will be presented to the Scientific Management Review Board in open session at an upcoming meeting.

Name of Committee: Substance Use, Abuse, and Addiction Working Group of the Scientific Management Review Board.

Date: September 23, 2009.

Open: 8 a.m. to 3 p.m.

Agenda: Presentation and discussion will include an overview of the science of substance use, abuse, and addiction and the public health needs in this area of research.

Place: National Institutes of Health, Building 60, Chapel and Lecture Hall, 9000 Rockville Pike, Bethesda, MD 20892.

Name of Committee: Deliberating Organizational Change and Effectiveness Working Group of the Scientific Management Review Board.

Date: September 24, 2009.

Open: 8 a.m. to 3 p.m.

Agenda: Presentations and discussion will include an overview of NIH mission and function from scientific and stakeholder perspectives, including elaboration upon the principles and attributes fundamental to its success.

Place: National Institutes of Health, Building 60, Chapel and Lecture Hall, 9000 Rockville Pike, Bethesda, MD 20892.

Contact Person: Dr. Lyric Jorgenson, PhD, NIH-AAAS Science and Technology Policy Fellow, Office of Science Policy, Office of the Director, NIH, National Institutes of Health, Building 1, Room 218, MSC 0166, 9000 Rockville Pike, Bethesda, MD 20892, smrb@mail.nih.gov, (301) 496-6837.

Any interested person may file written comments with the committee by forwarding the statement to the Contact Person listed on this notice. The statement should include the name, address, telephone number and when applicable, the business or professional affiliation of the interested person. The meeting will also be webcast. The draft meeting agenda and other information about the SMRB, including information about access to the webcast, will be available at http://smrb.od.nih.gov.

In the interest of security, NIH has instituted stringent procedures for entrance onto the NIH campus. All visitor vehicles, including taxis, hotel, and airport shuttles will be inspected before being allowed on campus. Visitors will be asked to show one form of identification (for example, a government-issued photo ID, driver's license, or passport) and to state the purpose of their visit.

Dated: August 28, 2009.
Lynn Hudson,
Acting Director, Office of Biotechnology Activities.

[FR Doc. E9-22000 Filed 9-11-09; 8:45 am]

BILLING CODE 4140-01-P